DEPARTMENT OF THE TREASURY

Fiscal Service

Surety Companies Acceptable on Federal Bonds: Name Change and Change in State of Incorporation—Travelers Casualty and Surety Company of Illinois

AGENCY: Financial Management Service, Fiscal Service, Department of the Treasury.

ACTION: Notice.

SUMMARY: This is Supplement No. 17 of the Treasury Department Circular 570; 2003 Revision, published July 1, 2003, at 68 FR 39186.

FOR FURTHER INFORMATION CONTACT: Surety Bond Branch at (202) 874-6779.

SUPPLEMENTARY INFORMATION: Travelers Casualty and Surety Company of Illinois has formally changed its name to Travelers Casualty Insurance Company of America and has redomesticated from the state of Illinois to the state of Connecticut, effective January 1, 2004. The Company was last listed as an acceptable surety on Federal bonds at 68 FR 39222, July 1, 2003.

Federal bond-approving officers should annotate their reference copies of the Treasury Circular 570, 2003 revision, on page 39222 to reflect this change.

The Circular may be viewed and downloaded through the Internet at http://www.fms.treas.gov/c570. A hard copy may be purchased from the Government Printing Office (GPO), Subscription Service, Washington, DC, telephone (202) 512-1800. When ordering the Circular from GPO, use the following stock number: 769-004-04643-2.

Questions concerning this notice may be directed to the U.S. Department of the Treasury, Financial Management Service, Funds Management Division, Surety Bond Branch, 3700 East-West Highway, Room 6F07, Hyattsville, MD 20782.

Dated: June 25, 2004.
Vivian Cooper,
Director, Financial Accounting and Services Division, Financial Management Service.

[FR Doc. 04-15122 Filed 7-1-04; 8:45 am]

BILLING CODE 4810-35-M